ENVIRONMENTAL PROTECTION AGENCY

40 CFR Part 52

[PA208-4215a; FRL-7780-9]

Approval and Promulgation of Air Quality Implementation Plans; Pennsylvania; Withdrawal of Direct Final Rule

AGENCY: Environmental Protection Agency (EPA).

ACTION: Partial withdrawal of direct final rule.

SUMMARY: Due to an adverse comment, EPA is withdrawing a paragraph that was included as part of a direct final rule to approve Pennsylvania's SIP pertaining to source-specific volatile organic compounds (VOC) and nitrogen oxides (NOX) RACT determination for two individual sources located in Pennsylvania. In the direct final rule published on May 24, 2004 (69 FR 29444), we stated that if we received adverse comments by June 23, 2004, the rule would be withdrawn and would not take effect. EPA subsequently received an adverse comment on one provision of that direct final rule and is withdrawing that provision. EPA will address the comment received in a subsequent final action based upon the proposed action also published on May 24, 2004 (69 FR 29444). EPA will not institute a second comment period on this action.

EFFECTIVE DATES: The addition of 40 CFR 52.2020 (c)(213)(i)(B)(1) published at 69 FR 29446 is withdrawn as of July 2, 2004.

FOR FURTHER INFORMATION CONTACT: Betty Harris, by telephone at: 215-814-2168, or by e-mail at: harris.betty@epa.gov.

SUPPLEMENTARY INFORMATION: See the information provided in the direct final rule located in the Rules and Regulations section of the May 24, 2004 Federal Register (69 FR 29444). EPA received an adverse comment on only one source, namely, National Fuel Gas Supply Corporation, Roystone Compressor Station located in Sheffield Township, Warren County, Pennsylvania, and we are withdrawing only that provision. The other actions in the May 24, 2004 Federal Register are not affected.

List of Subjects in 40 CFR Part 52

Environmental protection, Air pollution control, Incorporation by reference, Nitrogen dioxide, Ozone, Reporting and recordkeeping requirements, Volatile organic compounds.

Dated: June 24, 2004.
Donald S. Welsh,
Regional Administrator, Region III.

Accordingly, the addition of §§ 52.2020 (c)(213)(i)(B)(1) published at 69 FR 29446 is withdrawn as of July 2, 2004.

[FR Doc. 04-14990 Filed 7-1-04; 8:45 am]

BILLING CODE 6560-50-P